DEPARTMENT OF HOUSING AND URBAN DEVELOPMENT

[Docket No. FR-5924-N-01]

Announcement of Requirements and Registration for “Innovation in Affordable Housing Student Design and Planning Competition”

AGENCY: Office of the Assistant Secretary for Policy Development and Research, HUD.

ACTION: Notice.

SUMMARY: This notice announces the third year of the Innovation in Affordable Housing Student Design and Planning Competition. The competition requires teams of graduate students from multiple disciplines to submit plans in response to a real life affordable housing design issue. The goals of this competition are: To encourage research and innovation in quality affordable housing design that strengthens the social and physical fabric of low and moderate-income communities and neighborhoods, to raise practitioner and future practitioner capacity to produce more livable and sustainable housing for low and moderate-income people through disseminating best practices, and to foster cross-cutting team-work within the design and community development process.

DATES: February 8, 2016. The real life affordable housing design issue was released on December 11, 2015. The deadline for phase one of the competition will be February 8, 2016. Finalists will be announced on February 19, 2016, and will have until April 19, 2016, to prepare their presentations.

FOR FURTHER INFORMATION CONTACT: Rachelle Levitt, Research Utilization Division, Office of Policy Development and Research, Department of Housing and Urban Development, 451 7th Street SW., Room 8110, Washington, DC 20410, telephone 202-402-5867. Email: Rachelle.L.Levitt@hud.gov.

SUPPLEMENTARY INFORMATION:

Subject of Challenge Competition

Entrants in the Innovation in Affordable Housing Design are requested to present their plans for a site owned by a public housing authority (PHA). This presentation will include architectural designs, neighborhood planning, and financial plans.

Eligibility Rules for Participating in the Competition

The competition is open to any contestant, defined as a team of U.S. citizens or permanent residents of the United States who are currently enrolled in a graduate level program at a university in the United States. The team members must represent at least three related academic disciplines and will be supported by a faculty advisor. Individuals may not participate in more than one team.

To be eligible to win a prize under this challenge (Challenge), an individual or entity—

(1) Shall have registered to participate in the competition under the rules promulgated by HUD;

(2) Shall have complied with all the requirements under this section;

(3) In the case of a private entity, shall be incorporated in and maintain a primary place of business in the United States, and in the case of an individual, whether participating singly or in a group, shall be a citizen or permanent resident of the United States in order to receive prize money;

(4) May not be a Federal entity or Federal employee acting within the scope of their employment;

(5) Shall not be a HUD employee working on their applications or submissions during assigned duty hours;

(6) May not be a judge of the competition, or any other party involved with the design, production, execution, or distribution of the Challenge or their immediate family (spouse, parents or step-parents, siblings and step-siblings, and children and step-children);

(7) Federal grantees may not use Federal funds to develop challenge applications under the America COMPETES Reauthorization Act of 2011 (COMPETES Act) unless consistent with the purpose of their grant award;

(8) Federal contractors may not use Federal funds from a contract to develop COMPETES Act challenge applications or to fund efforts in support of a COMPETES Act challenge submission.

An individual or entity shall not be ineligible because the individual or entity used Federal facilities or consulted with Federal employees during a competition if the facilities and employees are made available to all individuals and entities participating in the competition on an equitable basis.

By participating in this Challenge, contestants agree to assume any and all risks and waive claims against the Federal Government and its related entities, except in the case of willful misconduct, for any injury, death, damage, or loss of property, revenue, or profits, whether direct, indirect, or consequential, arising from participation in this prize contest, whether the injury, death, damage, or loss arises through negligence or otherwise. By participating in this Challenge, contestants agree to indemnify the Federal Government against third party claims for damages arising from or related to Challenge activities.

Registration Process for Participants

All Contestants could register on the competition Web site, http://www.huduser.ogov/challenge . Interested parties can also read all official rules and sign up to receive more information and competition updates on this site.

Submission Period Begins: 12:01 a.m., EDT, December 11, 2015.

Submission Period Ends: 11:59 p.m., EDT, February 8, 2016.

Amount of the Prize

The winning team of the competition will be awarded $20,000. The runner-up team will be awarded $10,000. Prizes awarded under this competition may be subject to Federal income taxes. HUD will comply with the Internal Revenue Service withholding and reporting requirements, where applicable.

Basis Upon Which Winner Will Be Selected

Submissions to the competition will be assessed by an informed jury of approximately five practitioners and experts in the fields of architecture, urban planning, affordable housing, and other relevant areas, in compliance with the requirements of the COMPETES Act. Jury members will be named after the commencement of the competition.

The jury will make decisions based on the following criteria: Completeness of design, applicability, financial and economic viability, planning criterion, and innovation and creativity.

Additional Information

The finalists will be invited to a site visit of the PHA in early March, with expenses paid for two team members. All rules and competition information and updates can be found at www.huduser.gov/challenge.

Copyright and Intellectual Property: Upon submission, each team warrants that the team members are the sole owners of the submission, and that the submission is wholly original to the team and does not infringe on any copyright or other rights of any third party of which the team is aware.

Submission Rights: By participating in this Challenge, each Team grants to HUD an irrevocable, paid-up, royalty-free, non-exclusive license to post, link to, share, and display publicly on the Web. The Public Housing Authority may use ideas from submissions in their future efforts to address the affordable housing design issue.

Compliance With Rules and Contacting Contest Winners

Finalists and the Contest Winners must comply with all terms and conditions of these Official Rules, and winning is contingent upon fulfilling all requirements herein. The initial finalists will be notified by email after the date of the judging.

Privacy

Personal information provided to HUD by Contestants registering or filling out the submission form through huduser.gov is protected by the Privacy Act, and is used to respond to Contestants in matters regarding their submission, announcements of entrants, finalists, and winners of the Contest. Winners are permitted to cite that they won this contest.

General Conditions

HUD reserves the right to cancel, suspend, and/or modify the Competition, or any part of it, for any reason, at HUD's sole discretion.

Participation in this competition constitutes a contestant's and team's full and unconditional agreement to abide by the competition's official rules found at http://www.huduser.gov/challenge.

Authority: 15 U.S.C. 3719

Dated: January 5, 2016.
Katherine O'Regan,
Assistant Secretary for Policy Development and Research.

[FR Doc. 2016-00520 Filed 1-12-16; 8:45 am]

BILLING CODE 4210-67-P